FEDERAL TRADE COMMISSION

16 CFR Part 305

RIN 3084-AA74

Appliance Labeling Rule

AGENCY: Federal Trade Commission (FTC or Commission).

ACTION: Notice of proposed rulemaking; request for public comment.

SUMMARY: Section 324 of the Energy Independence and Security Act of 2007 requires the Federal Trade Commission to issue labeling rules for metal halide lamp fixtures and ballasts by July 1, 2008. In accordance with this directive, the FTC is publishing proposed amendments to the Appliance Labeling Rule (``Rule'') for comment.

DATES: Written comments must be received on or before April 28, 2008.

ADDRESSES: Interested parties are invited to submit written comments. Comments should refer to ``Proposed Metal Halide Lamp Labeling, Matter No. R611004'' to facilitate the organization of comments. A comment filed in paper form should include this reference both in the text and on the envelope, and should be mailed or delivered to the following address: Federal Trade Commission/Office of the Secretary, Room H-135 (Annex A), 600 Pennsylvania Avenue, NW., Washington, DC 20580. Comments containing confidential material must be filed in paper form, and the first page of the document must be clearly labeled ``Confidential'' and must comply with Commission Rule 4.9(c).¹ The FTC is requesting that any comment filed in paper form be sent by courier or overnight service, if possible, because postal mail in the Washington area and at the Commission is subject to delay due to heightened security precautions.

¹ Any request for confidential treatment, including the factual and legal basis for the request, must accompany the comment and must identify the specific portions of the comment to be withheld from the public record. The request will be granted or denied by the Commission's General Counsel, consistent with applicable law and the public interest. See Commission Rule 4.9(c), 16 CFR 4.9(c).

Comments filed in electronic form should be submitted by clicking on the following: https://secure.commentworks.com/ftc-metalhalide and following the instructions on the Web-based form. To ensure that the Commission considers an electronic comment, you must file it on the Web-based form at https://secure.commentworks.com/ftc-metalhalide. You also may visit http://www.regulations.gov to read this proposed Rule, and may file an electronic comment through that Web site. The Commission will consider all comments that regulations.gov forwards to it.

Comments on any proposed filing, recordkeeping, or disclosure requirements that are subject to paperwork burden review under the Paperwork Reduction Act should be submitted to: Office of Information and Regulatory Affairs, Office of Management and Budget (``OMB''), Attention: Desk Officer for Federal Trade Commission. Comments should also be submitted via facsimile to (202) 395-6974 because U.S. postal mail at the OMB is subject to delays due to heightened security precautions.

The FTC Act and other laws the Commission administers permit the collection of public comments to consider and use in this proceeding as appropriate. The Commission will consider all timely and responsive public comments that it receives, whether filed in paper or electronic form. Comments received will be available to the public on the FTC Web site, to the extent practicable, at http://www.ftc.gov. As a matter of discretion, the FTC makes every effort to remove home contact information for individuals from the public comments it receives before placing those comments on the FTC Web site. More information, including routine uses permitted by the Privacy Act, may be found in the FTC's privacy policy, at http://www.ftc.gov/ftc/privacy.htm.

Because written comments appear adequate to present the views of all interested parties, the Commission has not scheduled an oral hearing for these amendments. Interested parties may request an opportunity to present views orally. If such a request is made, the Commission will publish a document in the Federal Register, stating the time and place for such oral presentation(s) and describing the procedures that will be followed. Interested parties who wish to present oral views must submit, on or before March 31, 2008, a written comment that describes the issues on which the party wishes to speak. If there is no oral hearing, the Commission will base its decision on the written rulemaking record.

FOR FURTHER INFORMATION CONTACT: Hampton Newsome, (202) 326-2889, Attorney, Division of Enforcement, Bureau of Consumer Protection, Federal Trade Commission, 600 Pennsylvania Avenue, NW., Washington, DC 20580.

SUPPLEMENTARY INFORMATION: As directed by the Energy Independence and Security Act of 2007 (``EISA'' or ``Act'') (Pub. L. 110-140), the Commission is proposing amendments to the Appliance Labeling Rule (16 CFR Part 305) that would create new labeling requirements for metal halide lamp fixture packaging and ballasts contained within those fixtures.² This Notice provides a description of these products, information about EISA's requirements, and a description of the FTC's proposed amendments to implement that law. The Notice also states that the FTC will be conducting a separate rulemaking in the future related to energy disclosures for lamp products as required by EISA. Finally, this notice contains specific questions for comment and analysis under the Paperwork Reduction Act and Regulatory Flexibility Act.

² In accordance with 42 U.S.C. 6306(a)(1), this proceeding is being conducted pursuant to section 553 of the Administrative Procedure Act (5 U.S.C. 553) except that interested persons shall have an opportunity to present written and oral data, views, and arguments.

I. Labeling for Metal Halide Lamp Fixtures

Section 324(d) of the EISA amends the Energy Policy and Conservation Act (42 U.S.C. 6291 et seq.) (``EPCA'') to require the Federal Trade Commission to issue labeling rules for metal halide lamp fixture packaging and ballasts that are subject to Department of Energy (``DOE'') efficiency standards issued pursuant to 42 U.S.C. 6295. Under EISA, the Commission must prescribe the labeling rules by July 1, 2008. The statute also directs that the rules, once issued, must apply to any fixture manufactured on or after January 1, 2009. EISA defines a ``metal halide lamp'' as a ``high intensity discharge lamp in which the major portion of the light is produced by radiation of metal halides and their products of dissociation, possibly in combination with metallic vapors.'' ³ These lamps produce a bright, white light and offer high color rendition compared to other high-intensity lighting. They are used to light large indoor areas, such as gymnasiums and sports arenas, as well as outdoor areas, such as car lots.⁴ As discussed below, the Commission is proposing labeling rules for metal halide lamp fixtures consistent with the directive of EISA.

³ See Pub. L. 110-140, 324(a). The Act also contains definitions for ``metal halide ballast'' (used to start and operate metal halide lamps) and ``metal halide lamp fixture.''

⁴ See http://www.eere.energy.gov/consumer/ (``A Consumer's Guide to Energy Efficiency and Renewable Energy'').

Specifically, EISA directs the FTC to issue a rule requiring that metal halide lamp fixture packages and the ballasts in those fixtures be labeled conspicuously with ``a capital letter `E' printed within a circle.'' ⁵ Consistent with the labeling requirements for other lighting products, the encircled ``E'' will indicate that the product meets applicable DOE energy efficiency standards.⁶ Because EISA excludes some metal halide lamp fixture types from those efficiency standards,⁷ the FTC labeling will aid consumers in identifying which products are covered by the DOE standards.

⁵ 42 U.S.C. 6294(a)(2)(C)(ii). EISA mandates FTC labeling rules for metal halide lamp fixtures and ballasts contained in those fixtures. It does not require labeling for metal halide lamps themselves.

⁶ Under EISA (42 U.S.C. 6294(a)(2)(C)), the FTC's labeling rules cover only those fixtures subject to DOE efficiency standards issued pursuant to 42 U.S.C. 6295, and section 324(e) of EISA (42 U.S.C. 6295(hh)) specifically mandates DOE energy standards for metal halide lamp fixtures. Those standards become effective on the same date as the FTC's labeling requirements.

⁷ 42 U.S.C. 6295(hh)(1)(B).

The Commission is proposing amendments to the Appliance Labeling Rule to implement EISA's directive with regard to metal halide lamp fixtures and ballasts. First, consistent with the definition provided in EISA, the amendments provide descriptions of metal halide ballasts and metal halide lamp fixtures in the Rule's list of covered products at section 305.2.⁸ Second, the proposed amendments (305.15) require that the encircled ``E'' be clearly and conspicuously disclosed in color-contrasting ink on the label of metal halide lamp fixture packages and the ballasts contained in those fixtures. Consistent with current requirements for similar products, this disclosure would be deemed conspicuous, in terms of size, if it appears in typeface at least as large as either the manufacturer's name or another logo disclosed on the label (e.g., ``UL'' or ``ETL''), whichever is larger.⁹

⁸ The proposed description of (metal halide lamp fixture (§ 305.3(u)) indicates that only such fixtures subject to DOE efficiency standards are covered by the Rule.

⁹ These proposed labeling requirements track existing requirements for fluorescent lamp ballasts and luminaires (see 16 CFR 305.15(a)&(b)). Indeed, the statutory language in EPCA for fluorescent lamp ballasts and luminaires is very similar to that applicable to metal halide products. See 42 U.S.C. 6294(a)(2)(B).

Third, in addition to the proposed package and product labeling requirements, the amendments (305.20) would require retail catalog sellers to include the capital letter ``E'' printed within a circle in their descriptions of metal halide lamp fixtures.¹⁰ The proposed changes also would require disclosures in point of sale promotional material as required for other products (305.19).¹¹ Finally, consistent with requirements for other covered products, the proposed amendments would add reporting requirements for metal halide lamp fixtures in section 305.8 of the Rule.¹²

¹⁰ EPCA requires energy disclosures for catalog sellers of covered products. (42 U.S.C. 6296(a)).

¹¹ EPCA authorizes the Commission to require such point of sale disclosures for covered products (42 U.S.C. 6294(c)(4)). The current Rule contains similar requirements for fluorescent lamp ballasts (§ 305.19(a)(2)).

¹² Under section 305.8, the proposed rule would require the submission of data including, but not limited to, model number, voltage, and ballast efficiency. The proposed due date for annual reports of these products would be March 1.

II. Upcoming Rulemaking on the Effectiveness of Lamp Labeling

EISA requires the FTC to conduct a rulemaking to examine the effectiveness of current lighting disclosures required by the Commission and to explore alternative labeling approaches that ``will help consumers to understand new high-efficiency lamp products and to base the purchase decisions of the consumers on the most appropriate source that meets the requirements of the consumers for lighting level, light quality, lamp lifetime, and total lifecycle cost.'' ¹³ In order to meet the Congressional deadline for metal halide lamp fixture labeling requirements, the Commission will initiate the rulemaking on lamp label effectiveness separately at a future date.

¹³ EISA section 321(b) (42 U.S.C. 6294(d)(2)(I)).

III. Questions for Comment

The Commission seeks comments on all aspects of this proposed rule. All comments should be filed as prescribed in the ADDRESSES section above, and must be received on or before April 28, 2008. We ask that commenters address the following questions:

(1) What costs or burdens, or any other impacts, do the proposed requirements impose, and on whom? What evidence supports the asserted costs, burdens, or other impacts?

(2) What modifications, if any, should be made to the proposed requirements to increase their benefits to consumers?

(a) What evidence supports your proposed modifications? Please submit any such evidence.

(b) How would these modifications affect the costs and benefits of the proposed requirements for consumers?

(c) How would these modifications affect the costs and benefits of the proposed requirements for businesses, and in particular, small businesses?

(3) What modifications, if any, should be made to the proposed requirements to decrease their burdens on businesses?

(a) What evidence supports your proposed modifications? Please submit any such evidence.

(b) How would these modifications affect the costs and benefits of the proposed requirements for consumers?

(c) How would these modifications affect the costs and benefits of the proposed requirements for businesses, and in particular, small businesses?

(4) Are the proposed reporting requirements in section 305.8 appropriate? If not, should the Rule request different, more, or less information? If so, what information should be required? What evidence supports your answer(s)?

IV. Paperwork Reduction Act

The proposed requirements for package, product labels, as well as point-of-sale materials and catalog disclosures do not constitute a ``collection of information'' under the Paperwork Reduction Act of 1995 (44 U.S.C. 3501-3520) because they are a ``public disclosure of information originally supplied by the government to the recipient for the purpose of disclosure to the public'' as indicated in OMB regulations.¹⁴ The proposed data reporting for metal halide lamp ballast manufacturers, however, would constitute a ``collection of information.'' ¹⁵ Consistent with past estimates for fluorescent ballast manufacturers, we expect such reporting would require six hours per manufacturer. We estimate that there are approximately 20 manufacturers of metal halide lamp fixtures.¹⁶ Accordingly, we estimate the reporting burden for these entities to be 120 hours. In addition, consistent with past estimates for fluorescent ballast manufacturers, we estimate that the yearly recordkeeping burden for metal halide manufacturers will be no more than 2 hours each or 40 hours total (2 hours × 20 manufacturers). Therefore, the total estimated annual burden of the proposed amendments is 160 hours. The Commission seeks comment on this estimate.

¹⁴ 5 CFR 1320.3(c)(2).

¹⁵ The proposed rule would impose no reporting requirements on catalog sellers.

¹⁶ This number (20) is consistent with our estimate for fluorescent lamp ballast manufacturers. See 69 FR 64289, 64291 (Nov. 4, 2004). U.S. Economic Census data indicate that there are approximately 80 electric lamp bulb and part manufacturers, 473 residential electric lighting fixture manufacturers and 356 commercial, industrial, and institutional electric lighting fixture manufacturers in the U.S. We estimate that only a small fraction of those companies manufacture metal halide lamp fixtures. See http://www.census.gov/econ/census02/guide/INDRPT31.HTM (Codes 335110, 335121, and 335122).

V. Regulatory Flexibility Act

The Regulatory Flexibility Act (``RFA''), 5 U.S.C. 601-612, requires that the Commission provide an Initial Regulatory Flexibility Analysis (``IRFA'') with a proposed Rule and a Final Regulatory Flexibility Analysis (``FRFA''), if any, with the final rule, unless the Commission certifies that the rule will not have a significant economic impact on a substantial number of small entities. See 5 U.S.C. 603-605. The Commission does not anticipate that the proposed Rule will have a significant economic impact on a substantial number of small entities because the burdens of the rule are not significant and the number of affected entities are limited. Accordingly, this document serves as notice to the Small Business Administration of the FTC's certification of no effect.

To ensure the accuracy of this certification, however, the Commission requests comment on whether the proposed Rule will have a significant impact on a substantial number of small entities, including specific information on the number of entities that would be covered by the proposed Rule, the number of these companies that are small entities, and the average annual burden for each entity. Moreover, although the Commission certifies under the RFA that the rule proposed in this notice would not, if promulgated, have a significant impact on a substantial number of small entities, the Commission has determined, nonetheless, to publish an IRFA in order to inquire into the impact of the proposed Rule on small entities as follows:

A. Description of the Reason That Action by the Agency Is Being Taken

Section 324 of EISA requires the Commission to issue labeling rules for metal halide lamp products. EISA specifies the content of such labels. Also, the Federal Trade Commission is charged with enforcing the requirements of 42 U.S.C. 6294, which require the agency to issue this rule.

B. Statement of the Objectives of, and Legal Basis for, the Proposed Rule

The objective of the proposed Rule is to establish energy labeling requirements for metal halide lamp fixtures and ballasts. Section 324 of EISA requires the Commission to issue labeling rules for metal halide lamp products. EISA specifies the content of such labels.

C. Small Entities To Which the Proposed Rule Will Apply

Under the Small Business Size Standards issued by the Small Business Administration, lighting fixture manufacturers qualify as small businesses if they have fewer than 500 employees. As discussed in more detail in section IV of this Notice, the Commission estimates that only a small fraction of lamp fixture manufacturers (approximately 20 entities) produce metal halide lamp fixtures and ballasts. Even if most of these entities were small businesses, the number would not be substantial.

The Commission also estimates that 200 catalog retailers (including Web site sellers) would have to comply with the new reporting requirements, most or all of which are probably small businesses. As with catalog sellers of fluorescent lamp ballasts under the current rule, catalog sellers of metal halide fixtures and ballasts would have to insert an encircled “E” in each description of metal halide lamp fixtures they offer for sale. We expect that the burden associated with such disclosures will be de minimis.

The Commission seeks comment and information with regard to the estimated number or nature of small business entities for which the proposed Rule would have a significant economic impact.

D. Projected Reporting, Recordkeeping, and Other Compliance Requirements

The Commission recognizes that the proposed labeling rule will involve some increased costs for affected parties. Most of these costs will be in the form of redrafting information placed on packages and products and placing the required disclosure in paper and web-based catalogs. Specifically, the proposed amendments require that labels for metal halide lamp fixtures and ballasts, and point-of-sale promotional material for fixtures, disclose an ``E'' within a circle. Manufacturers already include information on packages and ballasts in the ordinary course of business. The Rule would require manufactures to reformat their labels one time to include the encircled ``E'' symbol. The proposed requirement that catalog sellers include the encircled ``E'' in their product descriptions would involve the same, one-time change to all of the metal halide lamp fixtures in the seller's catalog. Similarly, the Rule would contain standard reporting requirements for manufacturers to submit data that, in all likelihood, they already generate and disseminate during the normal course of business in catalogs and other disclosures.

The Commission does not expect that there will be any significant legal, professional, or training costs to comply with the rule. The Commission does not expect that the labeling requirements will impose significant incremental costs for Web sites or other advertising. Thus, the Commission anticipates that, in total, the burdens imposed by the proposed amendment should not be significant on any particular entity. The Commission invites comment and information on these issues.

E. Duplicative, Overlapping, or Conflicting Federal Rules

The Commission has not identified any other federal statutes, rules, or policies that would duplicate, overlap, or conflict with the proposed Rule. The Commission invites comment and information on this issue.

F. Significant Alternatives to the Proposed Rule

The proposed amendments closely track the prescriptive requirements of the statute, and thus leave little room for significant alternatives to decrease the burden on regulated entities. Nevertheless, the Commission seeks comment and information on the need, if any, for alternative compliance methods that, consistent with the statutory requirements, would reduce the economic impact of the rule on small entities. Congress has specified due dates for the Rule's promulgation and its applicability to affected entities. Accordingly, the Commission has no discretion as to the timing of the Rule's implementation. If the comments filed in response to this notice identify small entities that are affected by the Rule, as well as alternative methods of compliance that would reduce the economic impact of the rule on such entities, the Commission will consider the feasibility of such alternatives and determine whether they should be incorporated into the Final Rule.

VI. Proposed Rule Language

List of Subjects in 16 CFR Part 305

Advertising, Energy conservation, Household appliances, Labeling, Reporting and recordkeeping requirements.

For the reasons set out above, the Commission proposes the following amendments to 16 CFR part 305:

PART 305—RULE CONCERNING DISCLOSURES REGARDING ENERGY CONSUMPTION AND WATER USE OF CERTAIN HOME APPLIANCES AND OTHER PRODUCTS REQUIRED UNDER THE ENERGY POLICY AND CONSERVATION ACT (``APPLIANCE LABELING RULE'')

1. The authority citation for part 305 continues to read as follows:

Authority: 42 U.S.C. 6294.

2. In § 305.2, in paragraph (k)(2), add the phrase ``metal halide lamp fixtures,'' after the phrase ``fluorescent lamp ballasts,'' revise paragraph (l)(21), and add paragraph (l)(22) to read as follows:

§ 305.2 Definitions.

* * * * *

(l) * * *

(21) Metal halide lamp fixtures.

(22) Any other type of consumer product which the Department of Energy classifies as a covered product under section 322(b) of the Act (42 U.S.C. 6292).

* * * * *

3. In section 305.3, add paragraphs (s), (t), and (u) to read as follows:

§ 305.3 Description of covered products.

* * * * *

(s) Metal halide ballast means a ballast used to start and operate metal halide lamps.

(t) Metal halide lamp means a high intensity discharge lamp in which the major portion of the light is produced by radiation of metal halides and their products of dissociation, possibly in combination with metallic vapors.

(u) Metal halide lamp fixture means a light fixture for general lighting application that is designed to be operated with a metal halide lamp and a ballast for a metal halide lamp and that is subject to and complies with Department of Energy efficiency standards issued pursuant to 42 U.S.C. 6295.

* * * * *

4. Section 305.8 is amended as follows:

a. In paragraph (a)(1) of section 305.8, add the phrase ``metal halide lamp fixtures,'' after the phrase ``fluorescent lamp ballasts,''.

b. Add paragraph (a)(5).

c. Revise paragraph (b)(1)

§ 305.8 Submission of data.

(a) * * *

(5) Each manufacturer of a metal halide lamp fixture shall submit annually to the Commission a report for each basic model of metal halide lamp fixture in current production. The report shall contain the following information:

(i) Name and address of manufacturer;

(ii) All trade names under which the metal halide lamp fixture is marketed;

(iii) Model number;

(iv) Starting serial number, date code or other means of identifying the date of manufacture (date of manufacture information must be included with only the first submission for each basic model);

(v) Type of ballast (e.g., pulse, probe, or electronic);

(vi) Nominal input voltage and frequency;

(vii) Ballast efficiency; and

(viii) Lamp type and wattage (or range of wattages) with which the metal halide lamp fixture is designed to be used.

(b)(1) All data required by 305.8(a) except serial numbers shall be submitted to the Commission annually, on or before the following dates:

Product category | Deadline for data submission
Refrigerators | Aug. 1
Refrigerator-freezers | Aug. 1
Freezers | Aug. 1
Central air conditioners | July 1
Heat pumps | July 1
Dishwashers | June 1
Water heaters | May 1
Room air conditioners | May 1
Furnaces | May 1
Pool heaters | May 1
Clothes washers | Oct. 1
Fluorescent lamp ballasts | Mar. 1
Showerheads | Mar. 1
Faucets | Mar. 1
Water closets | Mar. 1
Urinals | Mar. 1
Metal halide lamp fixtures | Mar. 1
Fluorescent lamps | Mar. 1 [Stayed]
Medium Base Compact Fluorescent Lamps | Mar. 1 [Stayed]
Incandescent Lamps, incl. Reflector Lamps | Mar. 1 [Stayed]

* * * * *

§ 305.10 [Amended]

5. In paragraph (a) of § 305.10, add the phrase ``metal halide lamp fixtures,'' after the phrase ``fluorescent lamp ballasts,''.

6. In § 305.15, add paragraph (c) to read as follows:

§ 305.15 Labeling for lighting products.

* * * * *

(c) Metal halide lamp fixtures and metal halide ballasts

(1) Contents. Metal halide ballasts contained in a metal halide lamp fixture covered by this Part shall be marked conspicuously, in color-contrasting ink, with a capital letter ``E'' printed within a circle. Packaging for metal halide lamp fixtures covered by this Part shall also be marked conspicuously with a capital letter ``E'' printed within a circle. For purposes of this section, the encircled capital letter ``E'' will be deemed ``conspicuous,'' in terms of size, if it is as large as either the manufacturer's name or another logo, such as the ``UL,'' ``CBM'' or ``ETL'' logos, whichever is larger, that appears on the metal halide ballast, or the packaging for the metal halide lamp fixture, whichever is applicable for purposes of labeling.

(2) Product Labeling. The encircled capital letter ``E'' on metal halide ballasts must appear conspicuously, in color-contrasting ink (i.e., in a color that contrasts with the background on which the encircled capital letter ``E'' is placed) on the surface that is normally labeled. It may be printed on the label that normally appears on the metal halide ballast, printed on a separate label, or stamped indelibly on the surface of the metal halide ballast.

(3) Package Labeling. For purposes of labeling under this section, packaging for metal halide lamp fixtures consists of the plastic sheeting, or ``shrink-wrap,'' covering pallet loads of metal halide lamp fixtures as well as any containers in which such metal halide lamp fixtures are marketed individually or in small numbers. The encircled capital letter ``E'' on packages containing metal halide lamp fixtures must appear conspicuously, in color-contrasting ink, on the surface of the package on which printing or a label normally appears. If the package contains printing on more than one surface, the label must appear on the surface on which the product inside the package is described. The encircled capital letter ``E'' may be printed on the surface of the package, printed on a label containing other information, printed on a separate label, or indelibly stamped on the surface of the package. In the case of pallet loads containing metal halide lamp fixtures, the encircled capital letter ``E'' must appear conspicuously, in color-contrasting ink, on the plastic sheeting, unless clear plastic sheeting is used and the encircled capital letter ``E'' is legible underneath this packaging. The encircled capital letter ``E'' must also appear conspicuously on any documentation that would normally accompany such a pallet load. The encircled capital letter ``E'' may appear on a label affixed to the sheeting or may be indelibly stamped on the sheeting. It may be printed on the documentation, printed on a separate label that is affixed to the documentation or indelibly stamped on the documentation.

7. In paragraph (a)(1) of § 305.19, add the phrase ``metal halide lamp fixtures,'' after the phrase ``fluorescent lamp ballasts,'' and revise paragraph (a)(2) to read as follows:

§ 305.19 Promotional material displayed or distributed at point of sale.

(a) * * *

(2) Any manufacturer, distributor, retailer or private labeler who prepares printed material for display or distribution at point of sale concerning a covered product that is a fluorescent lamp ballast or metal halide lamp fixture to which standards are applicable under section 325 of the Act, shall disclose conspicuously in such printed material, in each description of such product, an encircled capital letter ``E''.

* * * * *

8. In paragraph (a) of § 305.20, add the phrase ``metal halide lamp fixtures,'' after the phrase ``fluorescent lamp ballasts,'' and add paragraph (e) to read as follows:

§ 305.20 Paper catalogs and Web sites.

* * * * *

(e) Any manufacturer, distributor, retailer, or private labeler who advertises metal halide lamp fixtures manufactured on or after January 1, 2009 in a catalog, from which they may be purchased by cash, charge account or credit terms, shall disclose conspicuously in such catalog, in each description of such metal halide lamp fixture, a capital letter ``E'' printed within a circle.

By direction of the Commission.
Donald S. Clark,
Secretary.

[FR Doc. E8-6566 Filed 3-31-08; 8:45 am]

BILLING CODE 6750-01-P